NUCLEAR REGULATORY COMMISSION

[Docket No. 50-412]

Pennsylvania Power Company, Ohio Edison Company, the Cleveland Electric Illuminating Company, the Toledo Edison Company, FirstEnergy Nuclear Operating Company, Beaver Valley Power Station, Unit 2; Notice of Consideration of Issuance of Amendment to Facility Operating License, Proposed No Significant Hazards Consideration Determination, and Opportunity for a Hearing

The U.S. Nuclear Regulatory Commission (the Commission) is considering issuance of an amendment to Facility Operating License No. NPF-73 issued to FirstEnergy Nuclear Operating Company (the licensee) for operation of the Beaver Valley Power Station, Unit 2, located in Beaver County, Pennsylvania.

The proposed amendment would revise certain 18-month surveillance requirements in the technical specifications by eliminating the condition that testing be conducted during shutdown, or during cold shutdown or refueling mode. The systems that would be affected are the emergency core cooling system (ECCS), containment depressurization and cooling system, chemical addition system, and containment isolation valve system. The proposed amendment would not change the current type and frequency of the 18-month surveillances for these systems.

Allowing testing to be performed either at shutdown or crediting testing performed at power maintains the safety analysis conclusions and allows shutdown activities to be planned which will reduce the shutdown risk.

In addition, the proposed amendment would make administrative, editorial, and format changes that have no impact on plant safety.

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does the change involve a significant increase in the probability or consequences of an accident previously evaluated?

The proposed amendment does not involve a significant increase in the probability of an accident previously evaluated because no changes are being made to any event initiator. The proposed amendment involves changes to accident mitigation system surveillance requirements. No analyzed accident scenario is being revised. The initiating conditions and assumptions for accidents described in the Updated Final Safety Analysis Report (UFSAR) remain as previously analyzed.

Certain safety related components can be tested only during plant shutdown in order to avoid a plant transient during power operation. The 18-month surveillances associated with this license amendment request also involve testing of components (e.g., relays) that are coupled with safety related systems and components which interface with core cooling systems used during shutdown conditions. Performance of this testing during shutdown conditions increases the shutdown risk. Elimination of the requirement to test associated components during shutdown conditions will minimize overall plant risk by allowing credit for components that are tested at power when the testing is consistent with safe operation of the plant. Other surveillance testing on the identified systems and components is already required to be performed periodically at power which duplicates a portion of the identified 18-month surveillance tests. By allowing credit to be taken for testing accomplished while at power to meet the 18-month surveillance requirement, eliminating redundant testing, and performing that portion of the associated tests that need to be performed at shutdown, plant safety is not adversely affected and shutdown risk can be minimized.

Beaver Valley Power Station (BVPS) is actively managing operational risk using insights from the site-specific probabilistic risk assessment. Through active risk management, BVPS assesses the effect of scheduled maintenance and surveillance activities on core damage frequency. Adjustments to scheduled activities are made, when possible, to lower operational risk.

These accident mitigation systems will be demonstrated to be able to function as required on a periodic basis. Thus, the performance of the affected surveillance requirements will continue to ensure that these systems are capable of mitigating a design basis accident. Therefore, the consequence of an accident previously evaluated is not significantly increased as a result of this license amendment request.

The proposed administrative, editorial, and format changes have no impact on plant safety.

Therefore, the proposed amendment does not involve a significant increase in the probability or consequences of an accident previously evaluated.

2. Does the change create the possibility of a new or different kind of accident from any accident previously evaluated?

The proposed amendment does not involve any physical changes to the plant or the modes of plant operation defined in the plant Technical Specifications. The proposed amendment does not involve the addition or modification of plant equipment nor does it alter the design or operation of any plant systems. No new accident scenarios, transient precursors, failure mechanisms, or limiting single failures are introduced as a result of these changes.

There are no changes in this amendment that would cause the malfunction of safety-related equipment assumed to be operable in accident analyses. No new mode of failure has been created and no new equipment performance requirements are imposed. The proposed amendment has no effect on any previously evaluated accident.

This license amendment request does not alter the surveillance type or frequency of the affected 18 month surveillance requirements for the ECCS, Containment Depressurization and Cooling System, Chemical Addition System, and Containment Isolation Valves. The license amendment request only proposes the removal of the requirement to perform the associated surveillances during shutdown conditions. Elimination of the requirement to test associated components during shutdown conditions will minimize overall plant risk by allowing credit for components that tested at power when the testing is consistent with safe operation of the plant.

Therefore, the proposed amendment will not create the possibility of a new or different kind of accident from any accident previously evaluated.

3. Does the change involve a significant reduction in a margin of safety?

The proposed amendment does not involve revisions to any safety limits or safety system setting that would adversely impact plant safety. The proposed amendment does not affect the ability of systems, structures or components important to the mitigation and control of design basis accident conditions within the facility to perform their safety related functions. In addition, the proposed amendment does not affect the ability of the safety systems to ensure that the facility can be maintained in a shutdown or refueling condition for extended periods of time.

The proposed amendment does not change the current surveillance type and frequency of the affected 18 month surveillance requirements for the ECCS, Containment Depressurization and Cooling System, Chemical Addition System, and Containment Isolation Valves. The proposed amendment removes only the requirement to perform this testing during shutdown conditions. Allowing this testing to be performed either during shutdown or at power when plant conditions do not adversely affect plant safety maintains the safety analysis conclusions and allows shutdown activities to be planned which will reduce the shutdown risk.

The proposed administrative, editorial, and format changes have no impact on plant safety.

Therefore, the proposed amendment does not involve a significant reduction in a margin of safety.

The NRC staff has reviewed the licensee's analysis and, based on this review, it appears that the three standards of 10 CFR 50.92(c) are satisfied. Therefore, the NRC staff proposes to determine that the requested amendment involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Copies of written comments received may be examined at the NRC Public Document Room, the Gelman Building, 2120 L Street, NW., Washington, DC.

The filing of requests for hearing and petitions for leave to intervene is discussed below.

By October 12, 2000 the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714 which is available at the Commission's Public Document Room, the Gelman Building, 2120 L Street, NW., Washington, DC, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) the nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, the Gelman Building, 2120 L Street, NW., Washington, DC, by the above date. A copy of the petition should also be sent to the Office of the General Counsel, U.S. Nuclear Regulatory Commission, Washington, DC 20555-0001, and to Mary O'Reilly, FirstEnergy Nuclear Operating Company, First Energy Corporation, 76 South Main Street, Akron, OH 44308, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated September 1, 2000, which is available for public inspection at the Commission's Public Document Room, the Gelman Building, 2120 L Street, NW., Washington, DC, and accessible electronically through the ADAMS Public Electronic Reading Room link at the NRC Web site (http://www.nrc.gov).

Dated at Rockville, Maryland, this 6th day of September 2000.
For the Nuclear Regulatory Commission.
Peter S. Tam,
Senior Project Manager, Section 1, Project Directorate I, Division of Licensing Project Management, Office of Nuclear Reactor Regulation

[FR Doc. 00-23358 Filed 9-11-00; 8:45 am]

BILLING CODE 7590-01-P